DEPARTMENT OF THE INTERIOR

Bureau of Land Management

[OR-027-1110-JM-H2KO; HAG-05-0096]

Notice of Intent To Prepare an Environmental Impact Statement for the North Steens Ecosystem Restoration Project

AGENCY: Bureau of Land Management, Burns District, Andrews Resource Area, Interior.

ACTION: Notice of Intent.

SUMMARY: In accordance with the National Environmental Policy Act of 1969, the Federal Land Policy and Management Act of 1976, and the Steens Mountain Cooperative Management and Protection Act of 2000 (Steens Act), the Bureau of Land Management (BLM) is initiating preparation of an Environmental Impact Statement (EIS) to analyze and undertake the North Steens Ecosystem Restoration Project (North Steens Project).

DATES: Scoping comments will be accepted for 15 days following publication of this notice. The North Steens Project was initially proposed for a smaller geographic area; however, initial scoping with private landowners and interested publics expanded the scope to its current landscape scale. Comments received during this scoping extension will be added to those received during previous scoping (January 5 to February 22, 2005). The results of all scoping will be used as BLM prepares the Draft EIS. Public notice will be provided when the Draft EIS becomes available later this year.

FOR FURTHER INFORMATION CONTACT: For further information or to have your name added to our mailing list, contact North Steens Project EIS Lead, Bureau of Land Management, Burns District Office, 28910, Highway 20 West, Hines, Oregon 97738; (541) 573-4543; fax (541) 573-4411; or e-mail (ORNSEIS@blm.gov). Documents pertinent to this project may be examined at the Burns District Office in Hines, Oregon, during regular business hours, 7:45 a.m. to 4:30 p.m., Monday through Friday, except holidays.

SUPPLEMENTARY INFORMATION: The North Steens Project is a landscape-level project proposing to utilize a combination of western juniper treatments (mechanical and non-mechanical methods) and wildland (prescribed and natural) fire to treat fuels and to restore habitat. Implementation of the project would reduce the increased influence of western juniper in mountain big sagebrush, low sagebrush, quaking aspen, mountain mahogany, old growth juniper (over 120 years old), and riparian plant communities. The proposed project area lies within the Andrews Resource Area and the Steens Mountain Cooperative Management and Protection Area (CMPA), designated October 30, 2000 by Act of Congress. The project is located in Harney County, Oregon, and affects approximately 336,000 acres of public and private land.

Section 113(c) of the Steens Act states: “The Secretary shall emphasize the restoration of the historic fire regime in the Cooperative Management and Protection Area and the resulting native vegetation communities through active management of western juniper on a landscape level. Management measures shall include the use of natural and prescribed burning.”

Management actions to be analyzed will include the following: Seeding of native species, reduction of western juniper (less than 120 yrs old), fencing, and management of wildland fire. Preliminary issues and management concerns were identified by BLM personnel and through the results of initial public scoping. Major issues to be addressed in the EIS include management of woodlands, vegetation, the Steens Mountain Wilderness area, Wilderness Study Areas, Wild and Scenic Rivers, wildlife habitat, special status species, fire/fuels, recreation, cultural resources, noxious weeds, water quality/aquatic resources/fisheries, and social and economic values. The EIS will also consider American Indian traditional practices.

An interdisciplinary approach will be used to develop the EIS in order to consider the variety of resource issues and concerns identified. Disciplines involved in the project will include (but not be limited to) those with expertise in management of the aforementioned resources.

Public Participation

Cooperating agencies having specific expertise or interests in the project will be invited to participate. The public and interest groups will have every opportunity to participate during formal comment periods and Steens Mountain Advisory Council (SMAC) meetings. The SMAC is an advisory group for actions affecting the CMPA, including this project. Every SMAC meeting provides an opportunity for public comments. In addition, public meetings will be held during the public comment period for the Draft EIS. Public meetings will be held in Burns, Oregon, and at other communities if the level of interest warrants. Early participation is encouraged and will help determine the future management of the North Steens Project area. Meetings and comment deadlines will be announced through the local news media and the Burns BLM Web site (http://www.or.blm.gov/Burns/). Written comments will be accepted throughout the planning process at the address above. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Background Information

Prior to 1870, western juniper was limited generally to rocky ridgetops or shallow soil areas with sparse vegetation. Changes in the historic trends are readily apparent within the CMPA. Historically, virtually all plant communities in the Burns District were subjected to wildland fire occurring on a variety of frequencies. The resulting mosaic of plant communities enhanced the success and diversity of animal species and contributed to the ecological integrity of the entire region. In fire-dependent ecosystems, occasional fire is essential to the health and function of the natural system. The loss of natural disturbance events or at least the modification of those events in this area has greatly modified specific habitats affecting the sensitive species living within them.

Dated: April 28, 2005.
Dana R. Shuford,
Burns District Manager.

Editorial Note:

This document was received in the Office of the Federal Register on July 15, 2005.

[FR Doc. 05-14312 Filed 7-20-05; 8:45 am]

BILLING CODE 4310-$$-P